DEPARTMENT OF DEFENSE

Office of the Secretary

32 CFR Part 323

[DoD-2006-OS-0022]

RIN 0790-AI00

Defense Logistic Agency Privacy Program

AGENCY: Department of Defense.

ACTION: Amendment of final rule.

SUMMARY: The Defense Logistic Agency recently altered an existing Privacy Act system of records notice identified as S500.60, entitled “DLA Hotline Program.” As part of the alteration, the system identifier and the system name were revised; therefore, the existing exemption rule for this particular system of records is being amended to reflect the new system identifier and the new system name. No other changes have been made to the existing rule.

DATES: Effective Date: March 26, 2007.

FOR FURTHER INFORMATION CONTACT: Ms. Jody Sinkler at (703) 767-5045.

SUPPLEMENTARY INFORMATION:

Executive Order 12866, “Regulatory Planning and Review”

It has been determined that 32 CFR part 323 is not a significant regulatory action. The rule does not:

(1) Have an annual effect on the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in this Executive Order.

Unfunded Mandates Reform Act (Sec. 202, Pub. L. 104-4)

It has been certified that this rule does not contain a Federal mandate that may result in the expenditure by State, local and tribal governments, in aggregate, or by the private sector, of $100 million or more in any one year.

Public Law 96-354, “Regulatory Flexibility Act” (5 U.S.C. 601)

It has been certified that this rule is not subject to the Regulatory Flexibility Act (5 U.S.C. 601) because it would not, if promulgated, have a significant economic impact on a substantial number of small entities.

Public Law 96-511, “Paperwork Reduction Act” (44 U.S.C. Chapter 35)

It has been certified that this rule does impose reporting or recordkeeping requirements under the Paperwork Reduction Act of 1995.

Executive Order 13132, “Federalism”

It has been certified that this rule does not have federalism implications, as set forth in Executive Order 13132. This rule does not have substantial direct effects on:

(1) The States;

(2) The relationship between the National Government and the States; or

(3) The distribution of power and responsibilities among the various levels of Government.

List of Subjects in 32 CFR Part 323 Privacy.

Accordingly, 32 CFR part 323 is amended as follows:

PART 323—DEFENSE LOGISTICS AGENCY PRIVACY PROGRAM

1. The authority citation for 32 CFR Part 323 continues to read as follows:

Authority: Pub. L. 93-579, 88 Stat. 1896 (5 U.S.C. 552a).

2. In Appendix H to part 323, the headings of paragraphs e. and e.1., are revised to read as follows:

Appendix H to Part 323, DLA Exemption Rules

* * * * *

e. ID: S500.60 (Specific exemption).

1. System name: DLA Hotline Program Records. * * *

* * * * *

March 16, 2007.
L.M. Bynum,
Alternate OSD Federal Register Liaison Officer, DoD.

[FR Doc. E7-5233 Filed 3-23-07; 8:45 am]

BILLING CODE 5001-06-P